DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Annual Survey of Manufactures.

Form Number(s): MA-10000(L), MA-10000(S), NC-99530.

OMB Control Number: 0607-0449.

Type of Request: Reinstatement, with change, of an expired collection.

Burden Hours: 177,400.

Number of Respondents: 50,000.

Average Hours Per Response: 2 hours and 44 minutes.

Needs and Uses: The Census Bureau has conducted the Annual Survey of Manufactures (ASM) since 1949 to provide key measures of manufacturing activity during intercensal periods. In census years ending in “2” and “7,” Census mail and collect the ASM as part of the Economic Census Covering the Manufacturing Sector.

The ASM statistics are based on a survey that includes both a mail and nonmail components. The mail portion of the survey is comprised of a probability sample of approximately 50,000 manufacturing establishments from a frame of approximately 128,000 establishments. These 128,000 establishments are comprised of manufacturing establishments of multiunit companies (companies with operations at more than one location) and large single-location manufacturing companies. The nonmail component is comprised of the remaining small and medium-sized single-location companies, approximately 218,000. No data are collected from companies in the nonmail component. Data are directly obtained from the administrative records of the Internal Revenue Service (IRS), the Social Security Administration (SSA), and the Bureau of Labor Statistics (BLS). The nonmail companies account for 63 percent of the population and for less than 7 percent of the manufacturing output.

Starting with the 2008 ASM, depreciation charges for all capital expenditures and rental payments will be added to the MA-10000(L) and MA-10000(S) forms.

This survey is an integral part of the Government's statistical program. Its results provide a factual background for decision making by the executive and legislative branches of the Federal Government. Federal agencies use the annual survey's input and output data as benchmarks for their statistical programs, including the Federal Reserve Board's Index of Industrial Production and the Bureau of Economic Analysis' estimates of the gross domestic product (GDP). The data also provide the Department of Energy with primary information on the use of energy by the manufacturing sector to produce manufactured products. These data also are used as benchmark data for the Manufacturing Energy Consumption Survey (MECS), which is conducted for the Department of Energy by the Census Bureau. The Department of Commerce uses the exports of manufactured products data to measure the importance of exports to the manufacturing economy of each state. Within the Census Bureau, the ASM data are used to benchmark and reconcile monthly and quarterly data on manufacturing production and inventories. The ASM is the only source of complete establishment statistics for the programs mentioned above.

The ASM furnishes up-to-date estimates of employment and payrolls, hours and wages of production workers, value added by manufacture, cost of materials, value of shipments by class of product, inventories, cost of employer's fringe benefits, operating expenses, and expenditures for new and used plant and equipment. The survey provides data for most of these items for all 5-digit and selected 6-digit industries as defined in the North American Industry Classification System (NAICS). We also provide geographic data by state at a more aggregated industry level.

The survey also provides valuable information to private companies, research organizations, and trade associations. Industry makes extensive use of the annual figures on product class shipments at the U.S. level in its market analysis, product planning, and investment planning. State development/planning agencies rely on the survey as a major source of comprehensive economic data for policymaking, planning, and administration.

The Ownership or Control Forms (NC-99530) will be used to update the Business Register, the basic sampling frame for many of our current surveys. This enables us to update establishments in the Census Bureau's Business Register that are incorrectly identified as being single-establishment firms.

Affected Public: Business or other for-profit organizations.

Frequency: Annually.

Respondent's Obligation: Mandatory.

Legal Authority: Title 13, United States Code, Sections 182, 224, 225.

OMB Desk Officer: Brian Harris-Kojetin, (202) 395-7314.

Copies of the above information collection proposal can be obtained by calling or writing Diana Hynek, Departmental Paperwork Clearance Officer, (202) 482-0266, Department of Commerce, Room 6625, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: August 7, 2008.
Gwellnar Banks,
Management Analyst, Office of the Chief Information Officer.

[FR Doc. E8-18649 Filed 8-12-08; 8:45 am]

BILLING CODE 3510-07-P